DEPARTMENT OF HEALTH AND HUMAN SERVICES

National Institutes of Health

Government-Owned Inventions; Availability for Licensing

AGENCY: National Institutes of Health, Public Health Service, DHHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: (301) 496-7057; fax: (301) 402-0220. A signed Confidential Disclosure Agreement will be required to receive copies of the patent applications.

Triptolide To Induce Immunotolerance

Xin Chen et al. (NCI).

U.S. Provisional Application 60/638,640 filed 22 Dec 2004 (DHHS Reference No. E-358-2004/0-US-01).

Licensing Contact: Fatima Sayyid; (301) 435-4521; sayyidf@mail.nih.gov.

Dendritic cells represent a heterogeneous population of antigen-presenting cells that initiate primary immune responses by activating naive T cells and subsequently the effector cells of the adaptive immune system. Accordingly, dendritic cells play an essential role in such conditions as autoimmune diseases, graft rejection, human immunodeficiency virus infection and the generation of T cell-dependent antibodies. The Chinese herb Tripterygium Wilfordii Hook F (TWHF) has been used in traditional Chinese medicine for the treatment of autoimmune diseases. A major active component isolated from TWHF is triptolide and it suppresses T lymphocyte activation.

The present invention relates to compositions and methods for inhibiting the activation of dendritic cells. The methods are useful for therapies related to conditions mediated by the activation of dendritic cells with an effective amount of a composition comprising triptolide or analog or derivative thereof, thereby inhibiting activation of dendritic cells.

In addition to licensing, the technology is available for further development through collaborative research opportunities with the inventors.

Wild-Type and DNA Polymerase Beta Null Mouse Embryotic Fibroblast Cell Lines Harboring a lambda-LIZ Transgene

Robert W. Sobol, Jr., Samuel H. Wilson (NIEHS).

DHHS Reference No. E-049-2000/0—Research Tool.

Licensing Contact: Marlene Shinn-Astor; (301) 435-4426; shinnm@mail.nih.gov.

Of great utility in toxicology and DNA repair research are knockout mice with cell lines enabling one to evaluate generations of gene mutations as a direct function of base excision repair. Of particular importance are lambda-LIZ transgenes. Likewise, wild-type and beta-pol null cell lines are equally important. While there exist cell lines carrying the lambda-LIZ transgene, only wild-type cells are currently available. And while wild-type and beta-pol null cell lines exist, none carry the lambda-LIZ transgene.

The present cell line incorporates both of these beneficial properties. These cell lines were created by crossing a transgenic mouse with multiple copies of the lambda-LIZ transgene with a mouse with but a single copy of the DNA polymerase beta. Rebreeding offspring produced cells of both wild type and beta-pol null genotype. The utility of these cells stem from the deficiency in base excision repair as a result of the null mutation in the DNA polymerase beta gene.

Also available for licensing are cell lines created using: Ung KO mice + lambda-LIZ transgene; Aag KO mice + lambda-LIZ transgene; PMS-2 KO mice + lambda-LIZ transgene; Pol-beta/Aag double KO mice + lambda-LIZ transgene; Pol-beta/PMS-2 double KO mice + lambda-LIZ transgene; Aag/PMS-2 double KO mice + lambda-LIZ transgene.

Dated: April 11, 2005.
Steven M. Ferguson,
Director, Division of Technology Development and Transfer, Office of Technology Transfer, National Institutes of Health.

[FR Doc. 05-7849 Filed 4-19-05; 8:45 am]

BILLING CODE 4140-01-P